DEPARTMENT OF HOUSING AND URBAN DEVELOPMENT

[Docket No. FR-5415-N-25A]

Notice of Voluntary Request To Indicate Intent To Apply for the Fiscal Year (FY) 2010 Choice Neighborhoods Grant Program

AGENCY: Office of the Assistant Secretary, Office of Public and Indian Housing, HUD.

ACTION: Notice.

SUMMARY: This Notice requests that eligible applicants intending to submit either a Planning or Implementation grant application under HUD's FY2010 Round 1 Choice Neighborhoods Grant Program Notice of Funding Availability (NOFA), which was posted on Grants.gov on August 26, 2010, notify HUD of their intent to apply by October 7, 2010. Eligible applicants under this NOFA are public housing authorities, local governments, nonprofits, and for profit developers that apply jointly with a public entity, as defined in the NOFA. HUD is requesting this information in order to effectively plan its application review process and to ensure timely decision making. Responding to this request is voluntary and not binding. Your not responding to this request will not prohibit you from submitting a Planning or Implementation grant application under this NOFA and will not affect HUD's review of your application.

If you choose to respond to this voluntary request, please do the following:

1. By October 7, 2010, contact the NOFA Information Center at 1-800-HUD-8929 (toll-free) in order to indicate your intent to apply for either Choice Neighborhoods Planning Grants or Choice Neighborhoods Implementation Grants. Persons with hearing or speech impairments may access these numbers via TTY by calling the Federal Information Relay Service at 1-800-877-8339.

2. When you contact the NOFA Information Center, please be prepared to provide the following information:

a. The organization name of the Lead Applicant;

b. Whether you intend to apply for a Choice Neighborhoods Planning Grant or Choice Neighborhoods Implementation Grant;

c. The city and state where the targeted neighborhood and distressed public and/or assisted housing project are located;

d. The name of the eligible neighborhood targeted by the intended application; and

e. The name of the distressed public and/or assisted housing project targeted by the intended application.

Please note that the October 26, 2010 deadline for Choice Neighborhoods applications remains unchanged.

FOR FURTHER INFORMATION CONTACT: To respond to this request, please contact the NOFA Information Center as indicated above. For other questions concerning this request or questions on the Choice Neighborhoods NOFA, please contact Ms. Caroline Clayton, at Caroline.C.Clayton@hud.gov or at 202-402-5461 (this is not a toll-free number). Persons with hearing or speech impairments may access these telephone numbers through a text telephone (TTY) by calling the toll-free Federal Information Relay Service at 1-800-877-8339.

Dated: September 16, 2010.
Dominique Blom,
Deputy Assistant Secretary, Office of Public Housing Investments.

[FR Doc. 2010-23863 Filed 9-23-10; 8:45 am]

BILLING CODE 4210-67-P